DEPARTMENT OF ENERGY

Office of Energy Efficiency and Renewable Energy

[Case No. CW-014]

Energy Conservation Program for Consumer Products: Notice of Petition for Waiver of Samsung Electronics America, Inc. From the Department of Energy Residential Clothes Washer Test Procedure, and Grant of Interim Waiver

AGENCY: Office of Energy Efficiency and Renewable Energy, Department of Energy.

ACTION: Notice of petition for waiver, notice of grant of interim waiver, and request for comments.

SUMMARY: This notice announces receipt of and publishes the Samsung Electronics America, Inc. (Samsung) petition for waiver (hereafter, “petition”) from specified portions of the U.S. Department of Energy (DOE) test procedure for determining the energy consumption of clothes washers. Today's notice also grants an interim waiver of the clothes washer test procedure. Through this notice, DOE also solicits comments with respect to the Samsung petition.

DATES: DOE will accept comments, data, and information with respect to the Samsung petition until, but no later than October 25, 2010.

ADDRESSES: You may submit comments, identified by case number CW-014, by any of the following methods:

• Federal eRulemaking Portal: http://www.regulations.gov. Follow the instructions for submitting comments.

• E-mail: AS_Waiver_Requests@ee.doe.gov. Include “Case No. CW-014” in the subject line of the message.

• Mail: Ms. Brenda Edwards, U.S. Department of Energy, Building Technologies Program, Mailstop EE-2J/1000 Independence Avenue, SW., Washington, DC 20585-0121. Telephone: (202) 586-2945. Please submit one signed original paper copy.

• Hand Delivery/Courier: Ms. Brenda Edwards, U.S. Department of Energy, Building Technologies Program, 950 L'Enfant Plaza, SW., Suite 600, Washington, DC 20024. Please submit one signed original paper copy.

Instructions: All submissions received should include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

Any person submitting written comments must also send a copy to the petitioner, pursuant to 10 CFR 430.27(d). The contact information for the petitioner is: Mr. Michael Moss, Director, Samsung Electronics America, Inc., 18600 Broadwick Street, Rancho Dominguez, CA 90220.

According to 10 CFR 1004.11, any person submitting information that he or she believes to be confidential and exempt by law from public disclosure should submit two copies to DOE: one copy of the document including all the information believed to be confidential, and one copy of the document with the information believed to be confidential deleted. DOE will make its own determination about the confidential status of the information and treat it according to its determination.

Docket: For access to the docket to review the background documents relevant to this matter, you may visit the U.S. Department of Energy, 950 L'Enfant Plaza, SW., (Resource Room of the Building Technologies Program), Washington, DC 20024; (202) 586-2945, between 9 a.m. and 4 p.m., Monday through Friday, except Federal holidays. Available documents include the following items: (1) This notice; (2) public comments received; (3) the petition for waiver and application for interim waiver; and (4) prior DOE waivers and rulemakings regarding similar clothes washer products. Please call Ms. Brenda Edwards at the above telephone number for additional information regarding visiting the Resource Room.

FOR FURTHER INFORMATION CONTACT: Dr. Michael G. Raymond, U.S. Department of Energy, Building Technologies Program, Mail Stop EE-2J, Forrestal Building, 1000 Independence Avenue, SW., Washington, DC 20585-0121. Telephone: (202) 586-9611. E-mail: Michael.Raymond@ee.doe.gov.

Ms. Elizabeth Kohl, U.S. Department of Energy, Office of the General Counsel, Mail Stop GC-71, Forrestal Building, 1000 Independence Avenue, SW., Washington, DC 20585-0103. Telephone: (202) 586-7796. E-mail: Elizabeth.Kohl@hq.doe.gov.

SUPPLEMENTARY INFORMATION:

I. Background and Authority

Title III of the Energy Policy and Conservation Act (“EPCA”) sets forth a variety of provisions concerning energy efficiency. Part A of Title III provides for the “Energy Conservation Program for Consumer Products Other Than Automobiles.” (42 U.S.C. 6291-6309). Part A includes definitions, test procedures, labeling provisions, energy conservation standards, and the authority to require information and reports from manufacturers. Further, Part A authorizes the Secretary of Energy to prescribe test procedures that are reasonably designed to produce results which measure energy efficiency, energy use, or estimated operating costs, and that are not unduly burdensome to conduct. (42 U.S.C. 6293(b)(3)). The test procedure for automatic and semi-automatic clothes washers is contained in 10 CFR part 430, subpart B, appendix J1.

The regulations set forth in 10 CFR 430.27 contain provisions that enable a person to seek a waiver from the test procedure requirements for covered consumer products. A waiver will be granted by the Assistant Secretary for Energy Efficiency and Renewable Energy (the Assistant Secretary) if it is determined that the basic model for which the petition for waiver was submitted contains one or more design characteristics that prevents testing of the basic model according to the prescribed test procedures, or if the prescribed test procedures may evaluate the basic model in a manner so unrepresentative of its true energy consumption characteristics as to provide materially inaccurate comparative data. 10 CFR 430.27(l). Petitioners must include in their petition any alternate test procedures known to the petitioner to evaluate the basic model in a manner representative of its energy consumption. 10 CFR 430.27(b)(1)(iii). The Assistant Secretary may grant the waiver subject to conditions, including adherence to alternate test procedures. 10 CFR 430.27(l). Waivers remain in effect pursuant to the provisions of 10 CFR 430.27(m).

The waiver process also allows the Assistant Secretary to grant an interim waiver from test procedure requirements to manufacturers that have petitioned DOE for a waiver of such prescribed test procedures. 10 CFR 430.27(a)(2). An interim waiver remains in effect for 180 days or until DOE issues its determination on the petition for waiver, whichever is sooner. An interim waiver may be extended for an additional 180 days. 10 CFR 430.27(h).

II. Application for Interim Waiver and Petition for Waiver

On July 20, 2010, Samsung filed a petition for waiver and application for interim waiver from the test procedure applicable to automatic and semi-automatic clothes washers set forth in 10 CFR part 430, subpart B, appendix J1. In particular, Samsung requested a waiver to test its clothes washers with basket volumes greater than 3.8 cubic feet on the basis of the residential test procedures contained in 10 CFR part 430, Subpart B, Appendix J1, with a revised Table 5.1 which extends the range of container volumes beyond 3.8 cubic feet.

Samsung's petition seeks a waiver from the DOE test procedure because a test load is used within the procedure, and the mass of this test load is based on the basket volume of the test specimen, which is currently not defined for the basket sizes of the basic models cited in its waiver application. In the DOE test procedure, the relation between basket volume and test load mass is defined for basket volumes between 0 and 3.8 cubic feet. Samsung has designed a series of clothes washers that contain basket volumes greater than 3.8 cubic feet.

Table 5.1 of Appendix J1 defines the test load sizes used in the test procedure as linear functions of the basket volume. Samsung has submitted a revised table to extend the maximum basket volume from 3.8 cubic feet to 6.0 cubic feet, a table is similar to one developed by the Association of Home Appliance Manufacturers (AHAM). AHAM provided calculations to extrapolate Table 5.1 of the DOE test procedure to larger container volumes. DOE believes that this is a reasonable procedure because the DOE test procedure defines test load sizes as linear functions of the basket volume AHAM's extrapolation was performed on the load weight in pounds, and AHAM seems to have used the conversion formula of 1/2.2 (or 0.45454545) to convert pounds to kilograms. Samsung used the more accurate conversion value of 0.45359237, rounding the results in kilograms to two decimal places.

An interim waiver may be granted if it is determined that the applicant will experience economic hardship if the application for interim waiver is denied, if it appears likely that the petition for waiver will be granted, and/or the Assistant Secretary determines that it would be desirable for public policy reasons to grant immediate relief pending a determination of the petition for waiver. (10 CFR 430.27(g)). DOE determined that Samsung's application for interim waiver does not provide sufficient market, equipment price, shipments, and other manufacturer impact information to permit DOE to evaluate the economic hardship Samsung might experience absent a favorable determination on its application for interim waiver. In a previous similar case, DOE granted an interim test procedure waiver to Whirlpool for three of Whirlpool's clothes washer models with container capacities greater than 3.8 ft³. 71 FR 48913 (August 22, 2006). This notice contained an alternate test procedure, which extended the linear relationship between maximum test load size and clothes washer container volume in Table 5.1 to include a maximum test load size of 15.4 pounds (lbs) for clothes washer container volumes of 3.8 to 3.9 ft³. General Electric Company (GE) submitted a petition very similar to Samsung's on June 22, 2010, and DOE granted an interim waiver to GE published elsewhere in today's Federal Register.

DOE believes that the values in the test load size chart submitted by Samsung are appropriate, and extending the linear relationship between test load size and container capacity to larger capacities is valid. Based on this, and the interim waivers granted to Whirlpool and GE, it appears likely that the petition for waiver will be granted. As a result, the Department of Energy grants an interim waiver to Samsung for its line of clothes washers with container volumes greater than 3.8 cubic feet, pursuant to 10 CFR 430.27(g). Therefore, it is ordered that:

The application for interim waiver filed by Samsung is hereby granted for the specified Samsung clothes washer basic models, subject to the specifications and conditions below.

1. Samsung shall not be required to test or rate the specified clothes washer products on the basis of the test procedure under 10 CFR part 430 subpart B, appendix J1.

2. Samsung shall be required to test and rate the specified clothes washer products according to the alternate test procedure as set forth in section IV, “Alternate test procedure.”

The interim waiver applies to the following basic model groups:

WA51A****

WA52A****

WA53A****

WA54A****

WA55A****

WA56A****

WF221***

WF231***

WF241***

WF251***

WF330***

WF331***

WF340***

WF350***

WF409***

WF410***

WF419***

WF421***

WF428***

WF431***

WF438***

WF441***

WF448***

WF451***

WF461***

WF471***

WF500***

WF510***

WF511***

WF512***

WF520***

where *** designates design characteristics such as color, manufactured by Samsung that are greater than 3.8 cubic feet.

DOE notes that Samsung requested a waiver and interim waiver for not only the model numbers specified above, but for “other clothes washer models manufactured by Samsung that are greater than 3.8 cubic feet”. DOE makes decisions on waivers and interim waivers for only those models specifically set out in the petition, not future models that may or may not be manufactured by the petitioner. Samsung may submit a new or amended petition for waiver and request for grant of interim waiver, as appropriate, for additional models of clothes washers for which it seeks a waiver from the DOE test procedure.

III. Alternate Test Procedure

EPCA requires that manufacturers use DOE test procedures to make representations about the energy consumption and energy consumption costs of products covered by EPCA. (42 U.S.C. 6293(c)) Consistent representations are important for manufacturers to make representations about the energy efficiency of their products and to demonstrate compliance with applicable DOE energy conservation standards. Pursuant to its regulations for the grant of a waiver or interim waiver from an applicable test procedure at 10 CFR 430.27, DOE is considering setting an alternate test procedure for Samsung in the subsequent Decision and Order. This alternate procedure is intended to allow manufacturers of clothes washers with basket capacities larger than provided for in the current test procedure to make valid representations. This test procedure is based on the expanded Table 5.1 of Appendix J1 submitted by Samsung. Furthermore, if DOE specifies an alternate test procedure for Samsung, DOE may consider applying the alternate test procedure to similar waivers for residential clothes washers.

During the period of the interim waiver granted in this notice, Samsung shall test its clothes washer basic models according to the provisions of 10 CFR part 430 subpart B, appendix J1, except that the expanded Table 5.1 below shall be substituted for Table 5.1 of appendix J1.

Table 5.1—Test Load Sizes
Container volume: cu. ft. ≥ < | Container volume: (liter) ≥ < | Minimum load: lb | Minimum load: (kg) | Maximum load: lb | Maximum load: (kg) | Average load: lb | Average load: (kg)
0-0.8 | 0-22.7 | 3.00 | 1.36 | 3.00 | 1.36 | 3.00 | 1.36
0.80-0.90 | 22.7-25.5 | 3.00 | 1.36 | 3.50 | 1.59 | 3.25 | 1.47
0.90-1.00 | 25.5-28.3 | 3.00 | 1.36 | 3.90 | 1.77 | 3.45 | 1.56
1.00-1.10 | 28.3-31.1 | 3.00 | 1.36 | 4.30 | 1.95 | 3.65 | 1.66
1.10-1.20 | 31.1-34.0 | 3.00 | 1.36 | 4.70 | 2.13 | 3.85 | 1.75
1.20-1.30 | 34.0-36.8 | 3.00 | 1.36 | 5.10 | 2.31 | 4.05 | 1.84
1.30-1.40 | 36.8-39.6 | 3.00 | 1.36 | 5.50 | 2.49 | 4.25 | 1.93
1.40-1.50 | 39.6-42.5 | 3.00 | 1.36 | 5.90 | 2.68 | 4.45 | 2.02
1.50-1.60 | 42.5-45.3 | 3.00 | 1.36 | 6.40 | 2.90 | 4.70 | 2.13
1.60-1.70 | 45.3-48.1 | 3.00 | 1.36 | 6.80 | 3.08 | 4.90 | 2.22
1.70-1.80 | 48.1-51.0 | 3.00 | 1.36 | 7.20 | 3.27 | 5.10 | 2.31
1.80-1.90 | 51.0-53.8 | 3.00 | 1.36 | 7.60 | 3.45 | 5.30 | 2.40
1.90-2.00 | 53.8-56.6 | 3.00 | 1.36 | 8.00 | 3.63 | 5.50 | 2.49
2.00-2.10 | 56.6-59.5 | 3.00 | 1.36 | 8.40 | 3.81 | 5.70 | 2.59
2.10-2.20 | 59.5-62.3 | 3.00 | 1.36 | 8.80 | 3.99 | 5.90 | 2.68
2.20-2.30 | 62.3-65.1 | 3.00 | 1.36 | 9.20 | 4.17 | 6.10 | 2.77
2.30-2.40 | 65.1-68.0 | 3.00 | 1.36 | 9.60 | 4.35 | 6.30 | 2.86
2.40-2.50 | 68.0-70.8 | 3.00 | 1.36 | 10.00 | 4.54 | 6.50 | 2.95
2.50-2.60 | 70.8-73.6 | 3.00 | 1.36 | 10.50 | 4.76 | 6.75 | 3.06
2.60-2.70 | 73.6-76.5 | 3.00 | 1.36 | 10.90 | 4.94 | 6.95 | 3.15
2.70-2.80 | 76.5-79.3 | 3.00 | 1.36 | 11.30 | 5.13 | 7.15 | 3.24
2.80-2.90 | 79.3-82.1 | 3.00 | 1.36 | 11.70 | 5.31 | 7.35 | 3.33
2.90-3.00 | 82.1-85.0 | 3.00 | 1.36 | 12.10 | 5.49 | 7.55 | 3.42
3.00-3.10 | 85.0-87.8 | 3.00 | 1.36 | 12.50 | 5.67 | 7.75 | 3.52
3.10-3.20 | 87.8-90.6 | 3.00 | 1.36 | 12.90 | 5.85 | 7.95 | 3.61
3.20-3.30 | 90.6-93.4 | 3.00 | 1.36 | 13.30 | 6.03 | 8.15 | 3.70
3.30-3.40 | 93.4-96.3 | 3.00 | 1.36 | 13.70 | 6.21 | 8.35 | 3.79
3.40-3.50 | 96.3-99.1 | 3.00 | 1.36 | 14.10 | 6.40 | 8.55 | 3.88
3.50-3.60 | 99.1-101.9 | 3.00 | 1.36 | 14.60 | 6.62 | 8.80 | 3.99
3.60-3.70 | 101.9-104.8 | 3.00 | 1.36 | 15.00 | 6.80 | 9.00 | 4.08
3.70-3.80 | 104.8-107.6 | 3.00 | 1.36 | 15.40 | 6.99 | 9.20 | 4.17
3.80-3.90 | 107.6-110.4 | 3.00 | 1.36 | 15.80 | 7.18 | 9.40 | 4.27
3.90-4.00 | 110.4-113.3 | 3.00 | 1.36 | 16.20 | 7.36 | 9.60 | 4.36
4.00-4.10 | 113.3-116.1 | 3.00 | 1.36 | 16.60 | 7.55 | 9.80 | 4.45
4.10-4.20 | 116.1-118.9 | 3.00 | 1.36 | 17.00 | 7.73 | 10.00 | 4.55
4.20-4.30 | 118.9-121.8 | 3.00 | 1.36 | 17.40 | 7.91 | 10.20 | 4.64
4.30-4.40 | 121.8-124.6 | 3.00 | 1.36 | 17.80 | 8.09 | 10.40 | 4.73
4.40-4.50 | 124.6-127.4 | 3.00 | 1.36 | 18.20 | 8.27 | 10.60 | 4.82
4.50-4.60 | 127.4-130.3 | 3.00 | 1.36 | 18.70 | 8.50 | 10.85 | 4.93
4.60-4.70 | 130.3-133.1 | 3.00 | 1.36 | 19.1 | 8.65 | 11.03 | 5.00
4.70-4.80 | 133.1-135.9 | 3.00 | 1.36 | 19.5 | 8.83 | 11.24 | 5.10
4.80-4.90 | 135.9-138.8 | 3.00 | 1.36 | 19.9 | 9.02 | 11.44 | 5.19
4.90-5.00 | 138.8-141.6 | 3.00 | 1.36 | 20.3 | 9.21 | 11.65 | 5.28
5.00-5.10 | 141.6-144.4 | 3.00 | 1.36 | 20.7 | 9.39 | 11.85 | 5.38
5.10-5.20 | 144.4-147.3 | 3.00 | 1.36 | 21.1 | 9.58 | 12.06 | 5.47
5.20-5.30 | 147.3-150.1 | 3.00 | 1.36 | 21.5 | 9.76 | 12.26 | 5.56
5.30-5.40 | 150.1-152.9 | 3.00 | 1.36 | 21.9 | 9.95 | 12.46 | 5.65
5.40-5.50 | 152.9-155.8 | 3.00 | 1.36 | 22.3 | 10.13 | 12.67 | 5.75
5.50-5.60 | 155.8-158.6 | 3.00 | 1.36 | 22.7 | 10.32 | 12.87 | 5.84
5.60-5.70 | 158.6-161.4 | 3.00 | 1.36 | 23.2 | 10.51 | 13.08 | 5.93
5.70-5.80 | 161.4-164.3 | 3.00 | 1.36 | 23.6 | 10.69 | 13.29 | 6.03
5.80-5.90 | 164.3-167.1 | 3.00 | 1.36 | 24.0 | 10.88 | 13.49 | 6.12
5.90-6.00 | 167.1-169.9 | 3.00 | 1.36 | 24.4 | 11.06 | 13.70 | 6.21
Notes: (1) All test load weights are bone dry weights.
(2) Allowable tolerance on the test load weights are ±0.10 lbs (0.05 kg).

IV. Summary and Request for Comments

Through today's notice, DOE announces receipt of Samsung's petition for waiver from certain parts of the test procedure that apply to clothes washers and grants an interim waiver to Samsung. DOE is publishing Samsung's petition for waiver in its entirety pursuant to 10 CFR 430.27(b)(1)(iv). The petition contains no confidential information. The petition includes a suggested alternate test procedure which is to measure the energy consumption of clothes washers with capacities larger than the 3.8 ft³ specified in the current DOE test procedure. DOE is interested in receiving comments from interested parties on all aspects of the petition, including the suggested alternate test procedure and any other alternate test procedure.

Pursuant to 10 CFR 430.27(b)(1)(iv), any person submitting written comments to DOE must also send a copy to the petitioner, whose contact information is included in the ADDRESSES section above.

Issued in Washington, DC, on September 16, 2010.
Henry Kelly,
Principal Deputy Assistant Secretary, Energy Efficiency and Renewable Energy.

July 20, 2010

Catherine Zoi

Energy Efficiency and Renewable Energy

Department of Energy

1000 Independence Avenue, SW.

Washington, DC 20585

Subject: Petition for Waiver and Application for Interim Waiver, Clothes Washers Capacity Greater than 3.8 Cubic Feet

Dear Assistant Secretary Zoi:

Samsung Electronics America, Inc., a subsidiary of Samsung Electronics Co., Ltd. (Samsung), respectfully submits this Petition for Waiver and Application for Interim Waiver to the Department of Energy (DOE) for the testing of clothes washers with capacity greater than 3.8 cubic feet.

The 10 CFR Part 430.27(a)(1) allows a person to submit a petition to waive for a particular basic model any requirements of § 430.23 upon the grounds that the basic model contains one or more design characteristics which either prevent testing of the basic model according to the prescribed test procedures, or the prescribed test procedures may evaluate the basic model in a manner so unrepresentative of its true energy consumption characteristics as to provide materially inaccurate comparative data. Additionally, 10 CFR Part 430.27(b)(2) allows an applicant to request an Interim Waiver if economic hardship and/or competitive disadvantage is likely to result absent a favorable determination on the Application for Interim Waiver.

Reasoning

In order to meet current market demands, Samsung designed and will be marketing clothes washers with capacities greater than 3.8 cubic feet. Samsung expects that the majority of Samsung clothes washers will be greater than 3.8 cubic feet in capacity. The current test procedure, Appendix J1 to Subpart B of Part 430, leaves an open gap for determining load sizes not covered by Table 5.1, preventing Samsung from appropriately testing clothes washer models with capacity greater than 3.8 cubic feet. The Department recognized this test method deficiency in the Interim Waiver granted to Whirlpool.¹

¹ 71 FR 48913.

Samsung expects that future clothes washer capacities will expand beyond 3.8 cubic feet, and through extrapolating the linear relationship between test load sizes and container volume in Table 5.1, Samsung proposes the following table for various Samsung clothes washer models WF###***, where ### designates model number and *** designates design characteristics such as color, or other clothes washer models manufactured by Samsung that are greater than 3.8 cubic feet:

Container volume: cu. ft. ≥ < | Container volume: (liter) ≥ < | Minimum load: lb | Minimum load: (kg) | Maximum load: lb | Maximum load: (kg) | Average load: lb | Average load: (kg)
3.80-3.90 | 107.6-110.4 | 3.00 | 1.36 | 15.80 | 7.17 | 9.40 | 4.26
3.90-4.00 | 110.4-113.3 | 3.00 | 1.36 | 16.20 | 7.35 | 9.60 | 4.35
4.00-4.10 | 113.3-116.1 | 3.00 | 1.36 | 16.60 | 7.53 | 9.80 | 4.45
4.10-4.20 | 116.1-118.9 | 3.00 | 1.36 | 17.00 | 7.71 | 10.00 | 4.54
4.20-4.30 | 118.9-121.8 | 3.00 | 1.36 | 17.40 | 7.89 | 10.20 | 4.63
4.30-4.40 | 121.8-124.6 | 3.00 | 1.36 | 17.80 | 8.07 | 10.40 | 4.72
4.40-4.50 | 124.6-127.4 | 3.00 | 1.36 | 18.20 | 8.26 | 10.60 | 4.81
4.50-4.60 | 127.4-130.3 | 3.00 | 1.36 | 18.70 | 8.48 | 10.85 | 4.92
4.60-4.70 | 130.3-133.1 | 3.00 | 1.36 | 19.10 | 8.66 | 11.05 | 5.01
4.70-4.80 | 133.1-135.9 | 3.00 | 1.36 | 19.50 | 8.85 | 11.25 | 5.10
4.80-4.90 | 135.9-138.8 | 3.00 | 1.36 | 19.90 | 9.03 | 11.45 | 5.19
4.90-5.00 | 138.8-141.6 | 3.00 | 1.36 | 20.30 | 9.21 | 11.65 | 5.28
5.00-5.10 | 141.6-144.4 | 3.00 | 1.36 | 20.70 | 9.39 | 11.85 | 5.38
5.10-5.20 | 144.4-147.2 | 3.00 | 1.36 | 21.10 | 9.57 | 12.05 | 5.47
5.20-5.30 | 147.2-150.1 | 3.00 | 1.36 | 21.50 | 9.75 | 12.25 | 5.56
5.30-5.40 | 150.1-152.9 | 3.00 | 1.36 | 21.90 | 9.93 | 12.45 | 5.65
5.40-5.50 | 152.9-155.7 | 3.00 | 1.36 | 22.30 | 10.12 | 12.65 | 5.74
5.50-5.60 | 155.7-158.6 | 3.00 | 1.36 | 22.80 | 10.34 | 12.90 | 5.85
5.60-5.70 | 158.6-161.4 | 3.00 | 1.36 | 23.20 | 10.52 | 13.10 | 5.94
5.70-5.80 | 161.4-164.2 | 3.00 | 1.36 | 23.60 | 10.70 | 13.30 | 6.03
5.80-5.90 | 164.2-167.1 | 3.00 | 1.36 | 24.00 | 10.89 | 13.50 | 6.12
5.90-6.00 | 167.1-169.9 | 3.00 | 1.36 | 24.40 | 11.07 | 13.70 | 6.21

The extrapolation was performed on the load weight in pounds (lb). The weight in kilograms (kg) was converted from lb, where 1 lb = 0.45359237 kg. The results in kg were rounded to two decimal places.

A similar test load size table was submitted by the Association of Home Appliance Manufacturers (AHAM) to the Department (AHAM Comments on the Framework Document for Residential Clothes Washers; EERE-2008-BT-STD-0019; RIN 1904-AB90, October, 2, 2009).

Conclusion

Without the Interim Waiver, Samsung will face economic hardship due to lost opportunity for sales, and lost investments in development and manufacturing.

On the grounds that current test methods for clothes washers will prevent Samsung from testing the majority of new clothes washer models and likelihood of economic hardship, Samsung requests that DOE grants Samsung the Interim Waiver and Waiver, to utilize the test load size table above for the testing of all Samsung clothes washers with capacity greater than 3.8 cubic feet.

Affected Persons

Primarily affected persons in the clothes washers category include Alliance Laundry Systems, LLC., BSH Home Appliances Corp., Electrolux Home Products, Equator, Fisher & Paykel Appliances, Inc., GE Appliances, Haier America Trading, L.L.C., LG Electronics Inc., Miele Appliances, Inc., and Whirlpool Corporation. Samsung will notify all these entities as required by the Department's rules and provide them with a version of this Petition. A copy was also provided to the Association of Home Appliance Manufacturers (AHAM).

Sincerely,

Michael Moss,

Director

[FR Doc. 2010-23835 Filed 9-22-10; 8:45 am]

BILLING CODE 6450-01-P